DEPARTMENT OF COMMERCE

Foreign-Trade Zones Board

[S-86-2020]

Foreign-Trade Zone 143—Sacramento, California; Application for Subzone, LiCAP Technologies, Sacramento, California

An application has been submitted to the Foreign-Trade Zones Board (the Board) by the Port of Sacramento, grantee of FTZ 143, requesting subzone status for the facility of LiCAP Technologies (LiCAP), located in Sacramento, California. The application was submitted pursuant to the provisions of the Foreign-Trade Zones Act, as amended (19 U.S.C. 81a-81u), and the regulations of the Board (15 CFR part 400). It was formally docketed on May 15, 2020.

The proposed subzone (1.5 acres) is located at 9795 Business Park Dr., Sacramento, California. A notification of proposed production activity has been submitted and is being processed under 15 CFR 400.37 (Doc. B-27-2020). The proposed subzone would be subject to the existing activation limit of FTZ 143.

In accordance with the Board's regulations, Qahira El-Amin of the FTZ Staff is designated examiner to review the application and make recommendations to the Executive Secretary.

Public comment is invited from interested parties. Submissions shall be addressed to the Board's Executive Secretary and sent to: ftz@trade.gov. The closing period for their receipt is June 30, 2020. Rebuttal comments in response to material submitted during the foregoing period may be submitted during the subsequent 15-day period to July 15, 2020.

A copy of the application will be available for public inspection in the “Reading Room” section of the Board's website, which is accessible via www.trade.gov/ftz.

For further information, contact Qahira El-Amin at Qahira.El-Amin@trade.gov or (202) 482-5928.

Dated: May 18, 2020.
Andrew McGilvray,
Executive Secretary.

[FR Doc. 2020-10985 Filed 5-20-20; 8:45 am]

BILLING CODE 3510-DS-P